DEPARTMENT OF HEALTH AND HUMAN SERVICES

Administration for Children and Families

Proposed Information Collection Activity; Comment Request

Title: Personal Responsibility Education Program (PREP) Performance Measures and Adult Preparation Subjects (PMAPS) Studies—Data Collection Related to the Performance Measures Study.

OMB No.: New Collection.

Description: The Office of Data Analysis, Research, and Evaluation (HHS/ACF/ACYF/ODARE) and the Family and Youth Services Bureau (HHS/ACF/ACYF/FYSB) in the Administration for Children and Families (ACF) propose a data collection activity as part of the Personal Responsibility Education Program (PREP) Performance Measures and Adult Preparation Subjects (PMAPS) Studies. The goals of the PMAPS studies are to collect, analyze, and report on performance measure data for PREP programs and to develop and test Adult Preparation Subjects (APS) conceptual models.

The PMAPS studies consist of two components: The “Performance Measures Study,” and the “Adult Preparation Subjects Study.” This notice is specific to data collection activities for the Performance Measures Study only. The Performance Measures Study component includes collection and analysis of performance measure data from State PREP (SPREP), Tribal PREP (TPREP), Competitive PREP (CPREP), and Personal Responsibility Education Innovative Strategies (PREIS) grantees. Data will be used to determine if PREP and PREIS grantees are meeting performance benchmarks related to the program's mission and priorities.

Respondents: Performance measurement data collection instruments will be administered to individuals representing SPREP, TPREP, CPREP, and PREIS grantees, their subawardees, and program participants.

Annual Burden Estimates
Instrument | Total number of respondents | Annual number of respondents | Number of responses per respondent | Average burden hours per response | Annual burden hours
Participant Entry Survey | 504,279 | 168,093 | 1 | .25 | 42,023
Participant Exit Survey | 551,847 | 183,949 | 1 | .50 | 91,975
Performance reporting system data form—grantees | 951 | 317 | 2 | 30 | 19,020
Performance reporting system data form—subawardees | 5,883 | 1,961 | 2 | 14 | 54,908

Estimated Total Annual Burden Hours: 207,926

In compliance with the requirements of Section 3506(c)(2)(A) of the Paperwork Reduction Act of 1995, the Administration for Children and Families is soliciting public comment on the specific aspects of the information collection described above. Copies of the proposed collection of information can be obtained and comments may be forwarded by writing to the Administration for Children and Families, Office of Planning, Research and Evaluation, 330 C Street SW., Washington, DC 20201, Attn: OPRE Reports Clearance Officer. Email address: OPREinfocollection@acf.hhs.gov. All requests should be identified by the title of the information collection.

The Department specifically requests comments on (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Robert Sargis
Reports Clearance Officer.

[FR Doc. 2016-08201 Filed 4-8-16; 8:45 am]

BILLING CODE 4184-37-P